SUSQUEHANNA RIVER BASIN COMMISSION

Projects Approved for Minor Modifications

AGENCY: Susquehanna River Basin Commission.

ACTION: Notice.

SUMMARY: This notice lists the minor modifications approved for a previously approved project by the Susquehanna River Basin Commission during the period set forth in DATES.

DATES: June 1-30, 2020.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists previously approved projects, receiving approval of minor modifications, described below, pursuant to 18 CFR 806.18 or to Commission Resolution Nos. 2013-11 and 2015-06 for the time period specified above:

Minor Modifications Issued Under 18 CFR 806.18

1. Silver Springs Ranch, LLC, Docket No. 20200313, Monroe Township, Wyoming County, Pa.; approval authorizing the additional water use purposes of bulk water supply for filling swimming pools and for other public water suppliers, as needed; Approval Date: June 12, 2020.

In addition, on March 13, 2020, the Susquehanna River Basin Commission adopted Resolution No. 2020-02 (Resolution) and companion Policy No. 2020-01 (Policy), which clarified the interpretation of consumptive use mitigation rules as applied to certain water impoundment evaporation (ponds, tanks, etc.).

Notice is hereby given that pursuant to, and consistent with, the Resolution and Policy, the Executive Director modified the following approvals to clarify that the evaporative losses from certain structures are not subject to consumptive use mitigation. A total of 111 dockets were modified pursuant to the Resolution. A list of those modifications can be found at https://www.srbc.net/regulatory/policies-guidance/docs/20200313.pdf.

Authority: Pub. L. 91-575, 84 Stat. 1509 et seq., 18 CFR parts 806, 807, and 808.

Dated: July 14, 2020.
Jason E. Oyler,
General Counsel and Secretary to the Commission.

[FR Doc. 2020-15520 Filed 7-16-20; 8:45 am]

BILLING CODE 7040-01-P